DEPARTMET OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by November 24, 2003.

Title, Form, and OMB Number: Air Force Research Laboratory Market Research Survey; OMB Number 0701-(To be determined.).

Type of Request: New Collection.

Number of Respondents: 1,000.

Responses Per Respondent: 1.

Annual Responses: 500

Average Burden Per Response: 15 minutes.

Annual Burden Hours: 125.

Needs and Uses: This survey will serve multiple purposes. It will guage government, industry, and academia's awareness of, familiarity with, attitudes about, and feelings toward the Air Force Research Laboratory (AFRL). It will also gauge what the AFRL Technology Horizons readership thinks of the magazine and the AFRL. The survey asks what they currently know about the laboratory and their experiences with various outreach programs, such as technology transfer, small business innovation research, independent research and analysis, and dual use science and technology. The survey also asks magazine readers to identify strengths and weaknesses of the magazine to guide the AFRL in future changes to the magazine to better meet readers' needs. The survey will allow for comparisons of data to better target communication efforts to effectively communicate AFRL information to the public. Findings from these surveys of the civilian population will be compared with similar data to be gathered from the internal AFRL leadership at approximately the same time, providing a valuable head-to-head comparison of civilian and AFRL leadership perceptions of how well the AFRL does its job.

Affected Public: Business or Other For-Profit.

Frequency: Biennially.

Respondent's Obligation: Voluntary.

OMB Desk Officer: Ms. Jacqueline Zeiher.

Written comments and recommendations on the proposed information collection should be sent to Ms. Zeiher at the Office of Management and Budget, Desk Officer for DoD, Room 10236, New Executive Office Building, Washington, DC 20503.

DOD Clearance Officer: Ms. Jacqueline Davis.

Written requests for copies of the information collection proposal should be sent to Ms. Davis, WHS/DIOR, 1215 Jefferson Davis Highway, Suite 1204, Arlington, VA 22202-4302.

Dated: October 17, 2003.
Patricia L. Toppings,
Alternate OSD Federal Register Liaison Officer, Department of Defense.

[FR Doc. 03-26852 Filed 10-23-03; 8:45 am]

BILLING CODE 5001-08-M